DEPARTMENT OF AGRICULTURE

Forest Service

Notice of Meeting; Southwest Oregon Provincial Advisory Committee

SUMMARY: The Southwest Oregon Provincial Advisory Committee will meet on Tuesday, November 16, 2004, for (1) a review of the Mt Ashland Forest Resiliency Project field trip; (2) a presentation on Water for Irrigation, Streams and Economy; (3) an update on the Northern Spotted Owl 5-year review; (4) a report on the Northwest Forest Plan and the Southwest Oregon Implementation Monitoring Report; and (5) an update from National Fire Plan and Cascade-Siskiyou National Monument Livestock study work groups. The meeting will be held at the Ashland Springs Hotel, 212 E. Main Street, Ashland, OR 97520. It begins at 9 a.m., ends 3:15 p.m., and the open public forum begins at 11:30 a.m. with a 4-minute limitation per individual presentation. Written comments may be submitted prior to the meeting and delivered to Designated Federal Official, Scott Conroy at the Rogue River-Siskiyou National Forest, PO Box 520, Medford, OR 97501.

FOR FURTHER INFORMATION CONTACT: Rogue River-Siskiyou National Forest Acting Public Affairs Officer Virginia Gibbons at (541) 858-2214, e-mail: vgibbons@fs.fed.us, or USDA Forest Service, PO Box 520, 333 West 8th Street, Medford, OR 97501.

Dated: October 21, 2004.
Nancy Rose,
Acting Forest Supervisor, Rogue River-Siskiyou National Forest.

[FR Doc. 04-24022 Filed 10-24-04; 8:45 am]

BILLING CODE 3410-11-M